ENVIRONMENTAL PROTECTION AGENCY

[EPA-HQ-OPP-2009-0709; FRL-8438-9]

Amendment of Experimental Use Permits

AGENCY: Environmental Protection Agency (EPA).

ACTION: Notice.

SUMMARY: EPA has granted amended experimental use permits (EUPs) to the following pesticide applicants. EUPs permit use of a pesticide for experimental or research purposes only in accordance with the limitations in the permit.

FOR FURTHER INFORMATION CONTACT: Shanaz Bacchus, Biopesticides and Pollution Prevention Division (7511P), Office of Pesticide Programs, Environmental Protection Agency, 1200 Pennsylvania Ave., NW., Washington, DC 20460-0001; telephone number: (703) 308-8097; e-mail address: bacchus.shanaz@epa.gov.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the person listed under FOR FURTHER INFORMATION CONTACT.

B. How Can I Get Copies of this Document and Other Related Information?

1. Docket. EPA has established a docket for this action under docket identification (ID) number EPA-HQ-OPP-2009-0709. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. EUPs

EPA has amended the following EUPs:

71693-EUP-1. Amendment. Mr. Larry C. Antilla. Arizona Cotton Research and Protection Council, 3721 Wier Avenue, Phoenix, AZ 85040. This EUP is amended to allow the use of 40,000 pounds of the end-use product per year (equivalent to 0.32 pound active ingredient per year) of the anti fungal agent Aspergillus flavus AF36 on 4,000 acres of pistachio to evaluate the control reduction of aflatoxin. The program is authorized only in the States of Arizona and California. The EUP is amended to expire on December 31, 2011.

71693-EUP-2. Amendment. Mr. Larry C. Antilla. Arizona Cotton Research and Protection Council, 3721 Wier Avenue, Phoenix, AZ 85040. This EUP is amended to allow the use of 80,000 pounds of the end-use product per year (equivalent to 0.64 pound active ingredient per year) of the anti fungal agent Aspergillus flavus AF36 on 8,000 acres of corn to evaluate the control reduction of aflatoxin. The program is authorized only in the States of Arizona and Texas. The EUP is amended to expire on January 4, 2011.

Authority: 7 U.S.C. 136c.

List of Subjects

Environmental protection, Experimental use permits.

Dated: September 24, 2009.
Keith A. Matthews,
Acting Director, Biopesticides and Pollution Prevention Division, Office of Pesticide Programs.

[FR Doc. E9-23933 Filed 10-6-09; 8:45 am]

BILLING CODE 6560-50-S